PACIFIC NORTHWEST ELECTRIC POWER AND CONSERVATION PLANNING COUNCIL

Sixth Northwest Electric Power and Conservation Plan

AGENCY: Pacific Northwest Electric Power and Conservation Planning Council (Northwest Power and Conservation Council; the Council).

ACTION: Notice of adoption of the Sixth Northwest Electric Power and Conservation Plan.

SUMMARY: The Pacific Northwest Electric Power Planning and Conservation Act of 1980 (16 U.S.C. 839 et seq.) requires the Council to adopt and periodically review and revise a regional power plan, the Northwest Electric Power and Conservation Plan. The Council first adopted the power and conservation plan in 1983, with significant amendments or complete revisions adopted in 1986, 1991, 1998 and 2004. The Council began a review of the power and conservation plan in December 2007, and in September 2009, the Council released for public review and comment the Draft Northwest Sixth Electric Power and Conservation Plan. During the comment period, the Council held public hearings in each of the four Northwest states, as required by the Northwest Power Act, engaged in consultations about the power and conservation plan with various governments, entities and individuals in the region, and accepted and considered substantial written and oral comments.

At the Council's regularly scheduled public meeting in February 2010 in Portland, Oregon, the Council formally adopted the revised power and conservation plan, called the Sixth Northwest Electric Power and Conservation Plan. The revised power and conservation plan meets the requirements of the Northwest Power Act, which specifies the components the power plan is to have, including an energy conservation program, a recommendation for research and development; a methodology for determining quantifiable environmental costs and benefits; a 20-year demand forecast; a forecast of power resources that the Bonneville Power Administration will need to meet its obligations; and an analysis of reserve and reserve reliability requirements. The power and conservation plan also includes the Council's Columbia River Basin Fish and Wildlife Program, developed pursuant to other procedural requirements under the Northwest Power Act. The Council followed the adoption of the power and conservation plan with decisions at public meetings in March and April 2010, also in Portland, Oregon, to approve supporting technical appendices and a Statement of Basis and Purpose and Response to Comments to accompany the final plan.

A pre-publication version of the final power and conservation plan is available on the Council's Web site, at http://www.nwcouncil.org/energy/powerplan/6/default.htm. A formal version will be published in the near future.

FOR FURTHER INFORMATION CONTACT: If you would like more information, or assistance in obtaining a copy of the Sixth Power Plan, please contact the Council's central office. The Council's address is 851 SW. Sixth Avenue, Suite 1100, Portland, Oregon 97204. The Council's telephone numbers are 503-222-5161, and 800-452-5161; the Council's FAX is 503-820-2370, and the Council's Web site is: http://www.nwcouncil.org.

Stephen L. Crow,
Executive Director.

[FR Doc. 2010-10373 Filed 5-3-10; 8:45 am]

BILLING CODE P